DEPARTMENT OF DEFENSE

Office of the Secretary

[Transmittal No. 21-51]

Arms Sales Notification

AGENCY: Defense Security Cooperation Agency, Department of Defense (DoD).

ACTION: Arms sales notice.

SUMMARY: The DoD is publishing the unclassified text of an arms sales notification.

FOR FURTHER INFORMATION CONTACT: Neil Hedlund at neil.g.hedlund.civ@mail.mil or (703) 697-9214.

SUPPLEMENTARY INFORMATION: This 36(b)(1) arms sales notification is published to fulfill the requirements of section 155 of Public Law 104-164 dated July 21, 1996. The following is a copy of a letter to the Speaker of the House of Representatives, Transmittal 21-51 with attached Policy Justification and Sensitivity of Technology.

Dated: March 16, 2023.
Aaron T. Siegel,
Alternate OSD Federal Register Liaison Officer, Department of Defense.

BILLING CODE 5001-06-P

BILLING CODE 5001-06-C

Transmittal No. 21-51

Notice of Proposed Issuance of Letter of Offer Pursuant to Section 36(b)(1) of the Arms Export Control Act, as amended

(i) Prospective Purchaser: Government of Japan

(ii) Total Estimated Value:

Major Defense Equipment * | $53.0 million
Other | $ 8.5 million
TOTAL | $61.5 million

(iii) Description and Quantity or Quantities of Articles or Services under Consideration for Purchase:

Major Defense Equipment (MDE):

Up to forty-four (44) Rolling Airframe Missiles (RAM) Block 2 Tactical Missiles, RIM-116C

Non-MDE:

Also included are RAM Block 2 Guidance Control Groups; RAM Guided Missile Round Pack Tri-Pack shipping and storage containers; operator manuals and technical documentation; U.S. Government and contractor engineering, technical and logistics support services; and other related elements of logistics and program support.

(iv) Military Department: Navy (JA-P-AUN)

(v) Prior Related Cases, if any: JA-P-ATK, JA-P-AUF

(vi) Sales Commission, Fee, etc., Paid, Offered, or Agreed to be Paid: None

(vii) Sensitivity of Technology Contained in the Defense Article or Defense Services Proposed to be Sold: See Attached Annex

(viii) Date Report Delivered to Congress: August 4, 2021

* As defined in Section 47(6) of the Arms Export Control Act.

POLICY JUSTIFICATION

Japan—RAM Block 2 Tactical Missiles

The Government of Japan has requested to buy up to forty-four (44) Rolling Airframe Missiles (RAM) Block 2 Tactical Missiles, RIM-116C. Also included are RAM Block 2 Guidance Control Groups; RAM Guided Missile Round Pack Tri-Pack shipping and storage containers; operator manuals and technical documentation; U.S. Government and contractor engineering, technical and logistics support services; and other related elements of logistics and program support. The total estimated program cost is $61.5 million.

This proposed sale will support the foreign policy goals and national security objectives of the United States by improving the security of a major ally that is a force for political stability and economic progress in the Asia-Pacific region. It is vital to U.S. national interest to assist Japan in developing and maintaining a strong and effective self-defense capability.

The proposed will provide significantly enhanced area defense capabilities over critical East Asian and Western Pacific air and sea-lines of communication. Japan will have no difficulty absorbing these services and support into its armed forces.

The proposed sale of this equipment and support will not alter the basic military balance in the region.

The principal contractor will be Raytheon Missiles and Defense, Tucson, AZ. There are no known offset agreements proposed in connection with this potential sale.

Implementation of this proposed sale will not require the assignment of any additional U.S. Government or contractor representatives to Japan.

There will be no adverse impact on U.S. defense readiness as a result of this proposed sale.

Transmittal No. 21-51

Notice of Proposed Issuance of Letter of Offer Pursuant to Section 36(b)(1) of the Arms Export Control Act

Annex

Item No. vii

(vii) Sensitivity of Technology:

1. The RIM-116C Rolling Airframe Missile (RAM) is an autonomous (i.e., “fire and forget”) lightweight, supersonic, surface-to-air tactical missile for ship self-defense against current and evolving anti-ship cruise missile threats. Advanced technology in the RIM-116C includes dual-mode RF/IR (radio frequency/infrared) guidance with IR all-the-way capability for non-emitting threats.

2. The highest level of classification of defense articles, components, and services included in this potential sale is CONFIDENTIAL.

3. If a technologically advanced adversary were to obtain knowledge of the specific hardware and software elements, the information could be used to develop countermeasures that might reduce weapon system effectiveness or be used in the development of a system with similar or advanced capabilities.

4. A determination has been made that Japan can provide substantially the same degree of protection for the sensitive technology being released as the U.S. Government. This sale is necessary in furtherance of the U.S. foreign policy and national security objectives outlined in the Policy Justification.

5. All defense articles and services listed in this transmittal have been authorized for release and export to Japan.

[FR Doc. 2023-05829 Filed 3-21-23; 8:45 am]

BILLING CODE 5001-06-P